DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation and are new, modified, discontinued, or completed since the last publication of this notice on August 12, 2008. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Office, Bureau of Reclamation, PO Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Used in this Document

BCP—Boulder Canyon Project

Reclamation—Bureau of Reclamation

CAP—Central Arizona Project

CVP—Central Valley Project

CRSP—Colorado River Storage Project

CFS—Cubic foot (feet) per second

FR—Federal Register

IDD—Irrigation and Drainage District

ID—Irrigation District

M&I—Municipal and Industrial

NMISC—New Mexico Interstate Stream Commission

O&M—Operation and Maintenance

P-SMBP—Pick-Sloan Missouri Basin Program

PPR—Present Perfected Right

RRA—Reclamation Reform Act of 1982

SOD—Safety of Dams

SRPA—Small Reclamation Projects Act of 1956

USACE—U.S. Army Corps of Engineers

WD—Water District

Pacific Northwest Region: Bureau of Reclamation, 1150 North Curtis Road, Suite 100, Boise, Idaho 83706-1234, telephone 208-378-5344.

New Contract Actions

14. Idaho Water Resource Board, Palisades Project, Idaho: Assignment of repayment contract for 5,000 acre-feet of storage space in Palisades Reservoir from the F.M.C. Corporation to provide water to help mitigate the effects of ground water withdrawal and drought on the Eastern Snake River Plain Aquifer.

15. State of Washington, Columbia Basin Project, Washington: Long-term contract for up to 5,000 acre-feet of water for M&I purposes.

Mid-Pacific Region: Bureau of Reclamation, 2800 Cottage Way, Sacramento, California 95825-1898, telephone 916-978-5250.

New Contract Action

36. California State Department of Water Resources: Reclamation is working with the Department to develop a 2009 Drought Water Bank to facilitate water transfers from willing sellers to willing buyers to assist with the anticipated drought in 2009.

Modified Contract Action

35. Cawelo WD, CVP, California: Long-term Warren Act contract for conveying up to 20,000 acre-feet of nonproject water (exchanged banked groundwater) via the Friant-Kern Canal for M&I purposes.

Lower Colorado Region: Bureau of Reclamation, PO Box 61470 (Nevada Highway and Park Street), Boulder City, Nevada 89006-1470, telephone 702-293-8192.

New Contract Actions

26. Basic Water Company, BCP, Nevada: Approve the assignment and transfer of 400 acre-feet per year of Colorado River water from Basic's contract to the Southern Nevada Water Authority's contract.

27. Basic Water Company, BCP, Nevada: Amend Basic's contract to conform to the assignment and transfer of 400 acre-feet per year of Colorado River water from Basic's contract to the Southern Nevada Water Authority's contract.

28. Southern Nevada Water Authority, BCP, Nevada: Amend contract to conform to the assignment and transfer of 400 acre-feet per year of Colorado River water from Basic Water Company's contract to Southern Nevada Water Authority's contract.

29. Metropolitan WD of Southern California, San Diego County Water Authority, Otay WD; California: Amendment to extend by 5 years to November 9, 2013, an agreement for temporary emergency delivery of a portion of the Mexican Treaty Waters of the Colorado River to the International Boundary in the vicinity of Tijuana, Baja California, Mexico, and for the operation of facilities in the United States.

30. Hillcrest Water Company, BCP, Arizona: Amend contract to exclude lands occupied by Springs del Sol Domestic Water Improvement District.

Modified Contract Actions

17. Mohave County Water Authority, Springs del Sol Domestic Water Improvement District, La Paz County; BCP; Arizona: Approval of assignment and transfers of 300 acre-feet of Mohave County's fourth-priority water entitlement from Mohave County to Springs del Sol (50 acre-feet) and La Paz County (250 acre-feet).

19. Hopi Tribe, Springs del Sol Domestic Water Improvement District, La Paz County; BCP; Arizona: Approval of assignment and transfers of 300 acre-feet of fourth-priority water entitlement from the Hopi Tribe to Springs del Sol (50 acre-feet) and La Paz County (250 acre-feet).

23. La Paz County, BCP; Arizona: Enter into a new contract for 100 acre-feet per year of fourth-priority water and Amendment No. 1 to add 400 acre-feet that is being assigned to La Paz County by the Mohave County Water Authority (250 acre-feet) and by the Hopi Tribe (250 acre-feet).

Discontinued Contract Actions

12. Basic Management, Inc., BCP, Nevada: Amend contract to add additional service areas where part of the contractor's entitlement can be used.

21. Ehrenberg Improvement Association on behalf of B&F Investment, BCP, Arizona: Amend contract to increase Ehrenberg's fourth-priority water entitlement by 100 acre-feet per year being assigned to B&F from the Mohave County Water Authority (50 acre-feet) and from the Hopi Tribe (50 acre-feet).

Completed Contract Actions

17. Mohave County Water Authority, Springs del Sol Domestic Water Improvement District, La Paz County; BCP; Arizona: Approval of assignment and transfers of 300 acre-feet of Mohave County's fourth-priority water entitlement from Mohave County to Springs del Sol (50 acre-feet) and La Paz County (250 acre-feet). Contracts executed on June 9, 2008, and June 10, 2008.

18. Mohave County Water Authority, BCP, Arizona: Amend contract to decrease the Authority's fourth-priority water entitlement by 300 acre-feet per year (La Paz County Option). Contracts executed on June 9, 2008, and June 10, 2008.

19. Hopi Tribe, Springs del Sol Domestic Water Improvement District, La Paz County; BCP; Arizona: Approval of assignment and transfers of 300 acre-feet of fourth-priority water entitlement from the Hopi Tribe to Springs del Sol (50 acre-feet) and La Paz County (250 acre-feet). Contracts executed on June 9, 2008, and June 10, 2008.

20. Hopi Tribe, BCP, Arizona: Amend contract to decrease the Hopi Tribe's fourth-priority water entitlement by 300 acre-feet per year (La Paz County Option). Contracts executed on June 9, 2008, and June 10, 2008.

22. Springs del Sol Domestic Water Improvement District (Springs del Sol), BCP, Arizona: Enter into a new contract with Springs del Sol for 100 acre-feet per year of fourth-priority water being assigned to Springs del Sol from the Mohave County Water Authority (50 acre-feet) and the Hopi Tribe (50 acre-feet). Contract executed on June 9, 2008.

23. La Paz County, BCP, Arizona: Enter into a new contract for 100 acre-feet per year of fourth-priority water and Amendment No. 1 to add 400 acre-feet that is being assigned to La Paz County by the Mohave County Water Authority (250 acre-feet) and by the Hopi Tribe (250 acre-feet). Contract and amendment executed on June 10, 2008.

24. Cibola Valley IDD, BCP, Arizona: Amend contract to decrease the district's fourth-priority water entitlement by 2,700 acre-feet per year that is being assigned from the district to Arizona Recreational Facilities, LLC. Contract executed on September 4, 2008.

25. Arizona Recreational Facilities, LLC, BCP; Arizona: Enter into a new contract with Arizona Recreational Facilities for 2,700 acre-feet per year of fourth-priority Colorado River water that is being assigned to them from the Cibola Valley IDD. Contract executed on September 4, 2008.

Upper Colorado Region: Bureau of Reclamation, 125 South State Street, Room 6107, Salt Lake City, Utah 84138-1102, telephone 801-524-3864.

New Contract Actions

1.(i) Michael R. Pelletier, Aspinall Storage Unit, CRSP: Mr. Pelletier has requested a 40-year water service contract for 1 acre-foot of M&I water out of the Blue Mesa Reservoir which requires Mr. Pelletier to present a Plan of Augmentation to the Division 4 Water Court.

34. Bridger Valley Water Conservancy District, Lyman Project, Wyoming: The district has requested that their Meeks Cabin repayment contract be amended from two 25 year contacts to one 40 year contract.

35. Glen, Michael D., and Tambra Spencer; Mancos Project; Colorado: The parties have requested a new carriage contract to replace existing contract No. 02-WC-40-8290. Existing carriage contract is for 1 cfs of nonproject water to be carried through Mancos Project facilities. The new contract will add 2 cfs to the existing quantity for a total of 3 cfs.

Discontinued Contract Actions

31. Strawberry High Line Canal Company, Strawberry Valley Project, Utah: The company has requested a contract for carriage of nonproject water in project canals.

32. Jordan Valley Water Conservancy District, Metropolitan WD of Salt Lake and Sandy, and others; Provo River Project; Utah: The entities have requested contracts for storage of nonproject water in Deer Creek Reservoir.

Completed Contract Actions

18. The Grand Valley Water Users Association, Reclamation, and U.S. Fish and Wildlife Service: Construction and O&M of a fish passage and fish screen facilities at the Grand Valley Diversion Dam and Government Highline Canal Facilities to facilitate recovery of endangered fish species in the Colorado River Basin (October 30, 2000, 114 Stat. 1602, Pub. L. 106-392). Contract was executed June 3, 2008.

22. Warren-Vosburg Ditch Company, Animas-La Plata Project, Colorado and New Mexico: Contract for payment of O&M costs associated with the Warren-Vosburg ditch. Contract was executed March 26, 2008.

Great Plains Region: Bureau of Reclamation, PO Box 36900, Federal Building, 316 North 26th Street, Billings, Montana 59101, telephone 406-247-7752.

New Contract Actions

43. Helena Sand & Gravel; Helena Valley Unit, P-SMBP; Montana: Request for a long-term water service contract for M&I purposes for up to 1,000 acre-feet of water per year.

44. City of Cheyenne, Kendrick Project, Wyoming: The City of Cheyenne has requested an amendment to its water storage contract to increase the storage entitlement to 15,700 acre-feet of storage space in Seminoe Reservoir.

45. Central Nebraska Public Power and ID; Glendo Unit, P-SMBP; Nebraska: Request to amend current water service contract.

Modified Contract Actions

8. Savage ID, P-SMBP, Montana: The district is currently seeking title transfer. The contract is subject to renewal pending outcome of the title transfer process. The existing interim contract expired in May 2008. A 5-year interim contract was offered to district on June 28, 2008.

14. Northern Integrated Supply Project, Colorado-Big Thompson Project, Colorado: Consideration of a new long-term contract with approximately 15 regional water suppliers and the Northern Colorado Water Conservancy District for the Northern Integrated Supply Project.

28. Glendo Unit, P-SMBP, Nebraska: Contract renewal for long-term water service contracts with Bridgeport, Enterprise, and Mitchell IDs.

Completed Contract Actions

5. Highland-Hanover ID; Hanover-Bluff Unit, P-SMBP; Wyoming: Execute long-term water service contract. Contract was executed June 13, 2008.

6. Upper Bluff ID; Hanover-Bluff Unit, P-SMBP; Wyoming: Execute long-term water service contract. Contract was executed June 13, 2008.

38. Treeline Springs, LLC., Canyon Ferry Unit, Montana: Request for water service contract for up to 620 acre-feet of water per year for replacement of water for senior water rights. Contract was executed June 19, 2008.

Dated: October 22, 2008.
Roseann Gonzales,
Director, Policy and Program Services, Denver Office.

[FR Doc. E8-27614 Filed 11-19-08; 8:45 am]

BILLING CODE 4310-MN-P